DEPARTMENT OF THE INTERIOR

Fish and Wildlife Service

[Docket No. FWS-HQ-IA-2017-0019; FXIA16710900000-156-FF09A30000]

Endangered Species; Marine Mammals: Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281. To locate the Federal Register notice that announced our receipt of the application for each permit listed in this document, go to www.regulations.gov and search on the permit number provided in the tables below in SUPPLEMENTARY INFORMATION.

FOR FURTHER INFORMATION CONTACT: Joyce Russell, (703) 358-2023; (telephone); (703) 358-2281; (fax); DMAFR@fws.gov (email).

SUPPLEMENTARY INFORMATION: On the dates below, as authorized by the provisions of the ESA, as amended (16 U.S.C. 1531 et seq.), and/or the MMPA, as amended (16 U.S.C. 1361 et seq.), we issued requested permits subject to certain conditions set forth therein. For each permit for an endangered species, we found that (1) the application was filed in good faith, (2) the granted permit would not operate to the disadvantage of the endangered species, and (3) the granted permit would be consistent with the purposes and policy set forth in section 2 of the ESA.

Endangered Species
Permit number | Applicant | Receipt of application Federal Register notice | Permit issuance date
04978C | Maire A. Malone | 81 FR 83278; November 21, 2016 | January 09, 2017.
24006B | Gerard Z. Siatkowski | 81 FR 27169; May 5, 2016 | January 09, 2017.
02129C | Museum of Wildlife and Fish Biology | 81 FR 83278; Nov 21, 2016 | January 17, 2017.
11143C | Pedro Salazar Sr | 81 FR 90864; Dec 15, 2016 | February 09, 2017.
05222C | Smithsonian National Zoological Park | 81 FR 86723; December 1, 2016 | February 13, 2017.
06408C | US Geological Survey | 81 FR 76959; November 4, 2016 | February 23, 2017.
94136B | Miami Seaquarium dba Festival Fun Parks, LLC | 81 FR 90864; December 15, 2016 | March 02, 2017.
12499C | Robert M. Behrend | 81 FR 92845; December 20, 2016 | March 01, 2017.
12330C | Ian K. Brimhall | 81 FR 92845; December 20, 2016 | March 06, 2017.

Marine Mammals
Permit number | Applicant | Receipt of application Federal Register notice | Permit issuance date
11556C | British Broadcasting Corporation | 81 FR 92845; December 20, 2016 | February 15, 2017.
02152C | SeaWorld LLC | 81 FR 66991; September 29, 2016 | March 2, 2017.

Authority: We issue this notice under the authority of the ESA, as amended (16 U.S.C. 1531 et seq.), and the MMPA, as amended (16 U.S.C. 1361 et seq.).

Joyce Russell,
Government Information Specialist, Branch of Permits, Division of Management Authority.

[FR Doc. 2017-12518 Filed 6-15-17; 8:45 am]

BILLING CODE 4333-15-P